DEPARTMENT OF JUSTICE

Notice of Lodging of Consent Decree Under the Comprehensive Environmental Response, Compensation, and Liability Act

Pursuant to 28 CFR 50.7, notice is hereby given that on January 12, 2007, a proposed Consent Decree in United States v. Leon A. Balthaser, Civil Action No. 07-cv-0156, was lodged with the United States District Court for the Eastern District of Pennsylvania.

In this civil action under the Comprehensive Environmental Response, Compensation and Liability Act (“CERCLA”), the United States seeks recovery of response costs from Leon A. Balthaser, in connection with the Peach Alley Parking Lot Superfund Site in Hamburg, Berks County, Pennsylvania (“Peach Alley Site” or “Site”). The proposed Consent Decree resolves the liability of Mr. Balthaser, who is the owner of the Peach Alley Site, under Section 107(a) of CERCLA, 42 U.S.C. 9607(a), for response costs incurred and to be incurred at the Site. The Consent Decree requires Mr. Balthaser to make a cash payment of $20,000 in reimbursement of response costs incurred by the United States in connection with the Site, and to provide access to, and restrict use of, the Site.

The Department of Justice will receive comments relating to the proposed Consent Decree for a period of thirty (30) days from the date of this publication. Please address comments to the Assistant Attorney General, Environmental and Natural Resources Division, P.O. Box 7611, U.S. Department of Justice, Washington, DC 20044-7611, and refer to United States v. Leon A. Balthaser, D.J. Ref. 90-11-3-08820.

The Consent Decree may be examined at the Office of the United States Attorney for the Eastern District of Pennsylvania, 615 Chestnut Street, Suite 1250, Philadelphia, Pennsylvania 19106 and at U.S. EPA Region III, 1650 Arch Street, Philadelphia, PA 19103. During the public comment period, the Consent Decree may also be examined on the following Department of Justice Web site, http://www.usdoj.gov/enrd/consent_decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $9.50 (25 cents per page reproduction cost) payable to the U.S. Treasury.

Robert Brook,
Assistant Chief, Environmental Enforcement Section, Environmental and Natural Resources Division.

[FR Doc. 07-302 Filed 1-24-07; 8:45 am]

BILLING CODE 4410-15-M